DEPARTMENT OF HEALTH AND HUMAN SERVICES

Administration for Children and Families

[Program Announcement No. ACYF-PA-CCB-2002-02]

Child Care Policy Research Discretionary Grants

AGENCY: Administration on Children, Youth and Families, ACF, DHHS.

ACTION: Announcement of the availability of funds and request for applications for Child Care Research Scholars and State Child Care Data and Research Capacity Projects.

SUMMARY: The purpose of this program announcement is to announce the availability of $1.1 million in fiscal year 2002 funds for child care research, demonstration, and evaluation activities to be distributed through grants to fund projects in the following two priority areas: (1) Child Care Research Scholars; and (2) State Child Care Data and Research Capacity Projects. Accredited universities and colleges may submit a Child Care Research Scholar application on behalf of a doctoral student conducting dissertation research on a child care policy topic. Child Care and Development Fund Lead Agencies seeking to improve their capacity for data analysis and policy-relevant research are invited to submit applications for the State Child Care Data and Research Capacity Projects.

Projects funded under each of the priority areas are expected to address child care questions with implications for children and families, especially low-income working families and families transitioning off welfare. Of particular interest are studies that address child care subsidy issues such as family eligibility, parent co-pays, provider reimbursement, and waiting lists, and broader child care issues, such as professional development of providers. Also of interest are efforts to understand the relative costs and merits of strategies to improve the quality of child care. These issues are of particular relevance to State and local policy-makers who must make difficult decisions about how best to manage limited subsidy resources while responding to the needs of low-income families and children. Projects investigating ACF priorities related to child care policy, including early literacy, faith-based providers, father involvement, strengthening families, rural child care, positive youth development, and improved knowledge related to outcome measures will also be given priority. Funded projects will be part of a comprehensive research agenda intended to increase the capacity for child care research at the national, State, and local levels and promote better linkages among research, policy, practice, and outcomes for children and families.

DATES: The closing date for submission of applications is June 17, 2002. Mailed applications postmarked after the closing date will be classified as late.

Mailing and Delivery Instructions: Mailed applications shall be considered as meeting the announcement deadline if they are either received on or before the deadline date, or sent on or before the deadline date, and received by ACF in time for the independent review to: Administration on Children, Youth and Families, Child Care Bureau Program Announcement No. ACYF-PA-CCB-2002-02, Child Care Bureau Conference Management Center c/o MasiMax Resources, Inc., 1300 Piccard Drive, Suite 203, Rockville, MD 20850, Telephone: 1-240-632-5632.

Applicants must ensure that a legibly dated U.S. Postal Service postmark or a legibly dated, machine-produced postmark or a commercial mail service is affixed to the envelope/package containing the application(s). To be acceptable as proof of timely mailing, a postmark from a commercial mail service must include the logo/emblem of the commercial mail service company and must reflect the date the package was received by the commercial mail service company from the applicant. Private metered postmarks shall not be acceptable as proof of timely mailing.

Applications hand carried by applicants, applicant couriers, or by other representatives of the applicant shall be considered as meeting an announcement deadline if they are received on or before the deadline date, between the hours of 8:30 a.m. and 5 p.m., EST, Monday through Friday (excluding Federal holidays) at the address above. (Applicants are cautioned that express/overnight mail services do not always deliver as agreed.)

ACF cannot accommodate transmission of applications by fax or through other electronic media, regardless of date or time of submission and receipt. Therefore, applications transmitted to ACF electronically will not be accepted.

Late Applications. Applications that do not meet the criteria stated above and are not received by the deadline date and time are considered late applications. The Administration for Children and Families (ACF) will notify each late applicant that its application will not be considered in the current competition.

Extension of Deadline. ACF may extend an application deadline for applicants affected by acts of God such as floods and hurricanes, when there is widespread disruption of mail service, or for other disruption of services, such as prolonged blackout, that affect the public at large. A determination to waive or extend deadline requirements rests with the Chief Grants Management Officer.

Notice of Intent to Submit Application: If you intend to submit an application, please notify the Child Care Bureau by fax at 202-690-5600. This fax should include the following information: the number and title of this announcement; your organization's name and address; and your contact person's name, phone number, fax number, and e-mail address. The information will be used to determine the number of expert reviewers needed to evaluate applications and to update the mailing list for program announcements.

FOR FURTHER INFORMATION CONTACT: For information about the application process and program information, contact Dr. Joanna Grymes, Program Specialist, Administration for Children and Families, Child Care Bureau, Room 2046, Mary E. Switzer Building, 330 C Street, SW., Washington, DC 20447, Phone: 202-205-8214, Fax: 202-690-5600, Email: jgrymes@acf.dhhs.gov.

SUPPLEMENTARY INFORMATION: This announcement includes the instructions needed to apply for (1) Child Care Research Scholars and (2) State Child Care Data and Research Capacity Projects. The Standard Federal Forms that must be included in applications can be downloaded from the Internet at: http://www.acf.dhhs.gov/programs/ofs/. For each priority area, the required Standard Federal Forms are identified under “Project Description and Application Requirements.”

The SUPPLEMENTARY INFORMATION section consists of six parts. Part I provides information about the Child Care Bureau, priority areas to be funded under this announcement, and instructions for submitting an application. Part II provides background information, instructions for completing applications, evaluation criteria, and funding procedures for Child Care Research Scholars (Priority Area 1). Part Ill provides background information, instructions for completing applications, evaluation criteria, and funding procedures for State Child Care Data and Research Capacity Projects (Priority Area 2). Part VI Appendices includes Appendix 1, content and format of application, and Appendix 2, the OMB-approved Uniform Project Description. The contents are outlined below:

Table of Contents

Part I. General Information

A. Purpose

B. Citations

C. Number of Awards, Duration, and Funding Levels

D. The Child Care Bureau

E. Research Agenda and Goals

F. Priority Areas to be Funded under this Announcement

G. Submission of Applications

H. Selection Process

Part II. Priority Area 1: Child Care Research Scholars

A. Purpose

B. Number of Awards

C. Project Period

D. Funding Levels

E. Matching Requirements and Non-Federal Share

F. Maximum Federal Share

G. Eligible Applicants

H. Additional Requirements

I. Project Description and Application Requirements

1. Contents and Format of the Application

2. Project Narrative Statement

J. Evaluation Criteria

Part III. Priority Area 2: State Child Care Data and Research Capacity Projects

A. Purpose

B. Background Information

C. Eligible Applicants

D. Number of Awards

E. Project Duration, Funding Levels, and Budget Periods

F. Federal Share

G. Other Financial Requirements

H. Data Ownership

I. Project Description and Application Requirements

1. Contents and Format of the Application

2. Project Narrative Statement

J. Evaluation Criteria

Part IV. Appendices

A. Appendix 1—Content and Format of Application

B. Appendix 2—Uniform Project Description

Part I. General Information

A. Purpose

The purpose of this program announcement is to fund child care research grants that will increase the capacity for child care research at national, State, and local levels while simultaneously addressing child care policy questions with implications for children and families, particularly low-income working families and families transitioning off welfare. An additional purpose is to further an understanding of the interactions among child care policy, and the ACF administrative priorities, including early literacy, faith-based providers, father involvement, strengthening families, rural child care, positive youth development, and improved knowledge related to outcome measures.

B. Citations

1. Statutory authority: The Child Care and Development Block Grant Act of 1990 as amended (CCDBG Act); section 418 of the Social Security Act; Consolidated Appropriations Act, 2001 (Pub. L. 106-554).

2. Catalog of Federal Domestic Assistance: The Catalog of Federal Domestic Assistance number for both priority areas is 93.647.

3. Paperwork Reduction Act of 1995 (Pub. L. 104-13): Public reporting burden for this collection of information is estimated to average 15 hours per response for the Child Care Research Scholars and 20 hours per response for the State Child Care Data and Research Capacity Building Projects. These estimates include the time for reviewing instructions, gathering and maintaining data needed, and reviewing the collection of information. The project description is approved under OMB control Number 0970-0139 which expires 12/31/03. An agency may not conduct or sponsor, and a person is not required to respond to, a collection of information unless it displays a currently valid OMB control number.

C. Number of Awards, Duration, and Funding Levels

Approximately 5-8 grants, including both priority areas, will be awarded in Fiscal Year 2002 (ending September 30, 2002), subject to results of the competitive review process and availability of funds. This announcement is soliciting applications for project periods of up to three years. Awards, on a competitive basis, will be for a one-year budget period. Applications for continuation grants funded under these awards beyond the one-year budget period will be entertained in subsequent years on a non-competitive basis, subject to the availability of funds, satisfactory progress of the grantee and a determination that continued funding would be in the best interest of the Government. Child Care Research Scholars may apply, under these conditions, for a second year; State Child Care Data and Research Capacity Projects may apply for up to two additional years under the conditions listed. Should additional funds be available in FY 2003, ACF also reserves the right to fund additional projects from among the applications received through this announcement. Funding levels for the first budget period will be up to $30,000 for the Child Care Research Scholar grants and up to $250,000 for the State Child Care Data and Research Capacity projects.

D. The Child Care Bureau

The Child Care Bureau (CCB) was established in 1994 to provide leadership in efforts to enhance the quality, affordability, and supply of child care available for all families. The Child Care Bureau administers the Child Care and Development Fund (CCDF), a $4.8 billion child care program that includes funding for child care subsidies and activities to improve the quality and availability of child care. CCDF was created after amendments to ACF child care programs by Title VI of the Personal Responsibility and Work Opportunity Reconciliation Act of 1996 consolidated four Federal child care funding streams including the Child Care and Development Block Grant, AFDC/JOBS Child Care, Transitional Child Care, and At-Risk Child Care. With related State and Federal funds, CCDF provides close to $11 billion a year to States, Territories, and Tribes to help low-income, working families access child care services.

The Bureau works closely with ACF Regions, States, Territories, and Tribes to assist with, oversee, and document implementation of new policies and programs in support of State, local and private sector administration of child care services and systems. In addition, the Bureau collaborates extensively with other offices throughout the Federal government to promote integrated, family-focused services and coordinated child care delivery systems. In all of these activities, the Bureau seeks to enhance the quality, availability, and affordability of child care services, support children's healthy growth and development in safe child care environments, enhance parental choice and involvement in their children's care, and facilitate the linkage of child care with other community services.

E. Research Agenda and Goals

The research agenda and goals of ACF and the Child Care Bureau target child care questions with implications for children and families, especially low-income working families and families transitioning off welfare. Of particular interest are child care subsidy issues such as family eligibility, parent co-pays, provider reimbursement, and waiting lists, and broader child care issues, such as professional development of providers. Also of interest are efforts to understand the relative costs and merits of strategies to improve the quality of child care. These issues are of particular relevance to State and local policy-makers who must make difficult decisions about how best to manage limited subsidy resources while responding to the needs of low-income families and children. The ACF priorities related to child care policy, including early literacy, faith-based providers, father involvement, strengthening families, rural child care, positive youth development, and improved knowledge related to outcome measures are also a significant component of the research agenda. Funded projects will be part of a comprehensive research agenda intended to increase the capacity for child care research at the national, State, and local levels and promote better linkages among research, policy, practice, and outcomes for children and families.

The Child Care Bureau's FY 2002 specific child care research agenda will extend the previously funded child care research activities and launch new evaluation and research capacity-building initiatives. The activities supported through this announcement will provide information and data to guide child care services, inform policy debates, and assist in developing solutions to complex child care issues. We intend to improve our capacity to respond to questions of immediate concern to policy makers, strengthen the child care research infrastructure, and increase knowledge about the efficacy of child care policies and programs in providing positive outcomes for children and helping low-income families obtain and retain work.

As more knowledge is gained about child development and well-being in contemporary environments, there is a need for better understanding of how child care affects the growing child. As more is known about the growing diversity in family values, child rearing strategies, preferences, and needs, questions arise as to how child care policies and programs affect the ability of parents to make wise decisions for their children. A better understanding of child care is also critical to employment goals for adults, particularly in the arena of welfare reform and economic self-reliance. In addition, there is a need for better information about how child care can help parents manage the difficulties of balancing work and family life, especially when resources are scarce.

The research agenda for the Child Care Bureau in FY 2000 and FY 2001 emerged from five broad research questions. These questions were designed to provide descriptive profiles of child care supply and demand, examine major variations and their outcomes, explore the interrelationships among child care market forces, policies and programs, and determine how these factors play out among different populations of children and families. These questions were: (a) What does child care look like today; (b) How do the variations in child care affect children; (c) How do the variations in child care affect parents; (d) How do the answers to these broad questions translate into specific policy and program choices at the state and local levels; and (e) How do the answers to all the questions above differ for sub-groups of children and families? As the knowledge base grows in these areas, the emerging questions in child care policy shift to a broader context. The Child Care Bureau wishes to build upon this broad knowledge base and expand the research agenda to include questions such as: (a) What are the relative merits and cost-benefits of the policies and programs related to child care; (b) How can the child, family and community outcomes of policies and programs best be measured; and (c) What are the most cost-effective policies and programs that facilitate positive outcomes for children, families, and communities? Of primary importance are projects that have the capability of informing policy makers at the Federal, State and local levels on issues related to child care policy.

F. Priority Areas To Be Funded Under This Announcement

Projects funded under each priority area will contribute to the Child Care Bureau's research goals, provide timely answers to critical questions, and expand research capacity.

1. Child Care Research Scholar grants will provide support for doctoral candidates in conducting dissertation research on child care. Issues of special priority for Child Care Research Scholarships are child care policy issues, especially those focusing on outcomes for children and families. For a further discussion of the priorities, see Section E above. Applicants should expect to complete their dissertation research within the two-year scholarship period.

2. State Child Care Data and Research Capacity Projects are being funded to provide support to Child Care and Development Fund State Lead Agencies in building internal or contractual research and evaluation capacity. A major emphasis of these projects will be to improve the timeliness and reliability of the State child care data reported to the Child Care Bureau. We expect that projects funded under this priority will focus on building a State-level infrastructure to: (a) Improve data collection, analysis, interpretation, and reporting of CCDF data; (b) develop or improve analytic linkages with other State and local data systems; (c) build collaborative efforts among institutions of higher education, research organizations, policy makers, practitioners, and other stakeholders to promote high quality research; (d) conduct child care research that is specifically responsive to the needs of the State and local communities within the State; (e) develop leadership skills in the management and interpretation of data; and, (f) exercise effective dissemination strategies and means of informing policy decisions with research results.

G. Submission of Applications

Applicants should submit an original and two copies of the complete application packet. Each copy of the application should be securely stapled in the upper left-hand corner, clipped, or enclosed in a quick-release binder. Because each application will be duplicated for the review panel, do not use non-removable binders. Do not include tabs, plastic inserts, brochures, videos, or any other item that cannot be photocopied.

H. Selection Process

The Commissioner, Administration on Children, Youth and Families, will make the final selection of the applicants to be funded, upon receipt of the recommendation of the Associate Commissioner for the Child Care Bureau. Applications may be funded in whole or in part depending on: (1) The rank order of applicants resulting from the competitive review; (2) staff review and consultations; (3) the combination of projects which best meets the Bureau's research objectives; (4) the funds available; and (5) other relevant considerations.

Selected applicants will be notified through the issuance of a Financial Assistance Award which sets forth the amount of funds granted, the terms and conditions, reporting requirements, the effective date of the award, the budget period for which support is given, and the total project period for which support is provided.

1. Screening and Panel Review

Each application will be screened to determine whether the applicant organization is eligible as specified in each of the priority areas. Applications from ineligible organizations will be excluded from the review.

a. The review will be conducted in Washington, D.C. Expert reviewers will include researchers, Federal or State staff, child care administrators and other individuals experienced in the study of child care demand and supply, child care delivery systems, welfare and supportive services, early child development and education, parental choice and involvement, and other relevant areas.

b. A panel of at least three reviewers will evaluate each application to determine the strengths and weaknesses of the proposal in terms of the Bureau's research goals and expectations for the priority area under consideration, requirements for the Project Narrative Statement, and the evaluation criteria listed below.

c. Panelists will provide written comments and assign numerical scores for each application. The indicated point value for each criterion is the maximum numerical score for that criterion. The assigned scores for each criterion will be summed to yield a total evaluation score for the proposal.

d. In addition to the panel review, the Bureau may solicit comments from other Federal offices and agencies, from the states, from relevant non-governmental organizations, and from individuals whose particular expertise is identified as necessary for the consideration of technical issues arising during the review. Their comments, along with those of the panelists, will be considered by the Bureau in making funding decisions. The Bureau will also take into account the best combination of proposed projects to meet overall research goals.

2. Funding Date

Grants to successful applicants will be awarded by September 29, 2002.

Part II. Priority Area 1: Child Care Research Scholars

A. Purpose

This priority is intended to strengthen the child care research infrastructure by supporting the development of researchers with a grasp of child care research and its implications for policies and programs. Under this priority area, support will be provided to doctoral candidates in conducting dissertation research on child care issues under the auspices of the Child Care Bureau and the educational institution in which the student is enrolled. Dissertation research under this priority must support the Bureau's research agenda including addressing important questions about child care that have implications to families and children. The student is expected to gain experience and expertise in theories and methods related to child care, child development, early childhood education, child care program administration, or child care policy.

B. Number of Awards

Up to 5 scholarships will be awarded. No individual educational institution will be funded for more than one candidate unless applications from other universities are scored as non-competitive by the expert review panel.

C. Project Period

The project period will be for a period of up to 24 months (9/30/02-9/29/04). For 24 month projects, the first 12 months will be funded through this competition. The subsequent year awards (12 months) will be considered on a non-competitive basis subject to the availability of funds from future appropriations, satisfactory progress of the grantee, and a determination that continued funding is in the best interest of the government. A subsequent year award will not be approved if the student has graduated by the end of the first year.

D. Funding Levels

Up to $30,000 will be awarded to each successful applicant for a 12-month budget period. If the applicant expects to receive a doctorate by the end of the first one-year budget period, the application should request funding for a single grant period.

E. Matching Requirements and Non-Federal Share

There are no matching requirements.

F. Maximum Federal Share

The maximum federal share is $30,000 for the first 12-month budget period and $20,000 for one subsequent 12-month period.

All monies must be used for the dissertation research including required personnel costs, travel, and other expenses directly related to the research.

G. Eligible Applicants

Eligible applicants include universities or colleges on behalf of doctoral candidates conducting dissertation research on a child care topic consistent with the research goals and priorities appropriate to child care policy described in Part I of this announcement, and who anticipate completing the child care-related dissertation within the two-year scholarship period.

To be eligible to administer the grant on behalf of the student, the institution must be fully accredited by one of the regional accrediting commissions recognized by the Department of Education. Although the faculty advisor will be listed as the Principal Investigator, this grant is intended for dissertation work being conducted by a doctoral candidate. Information about both the graduate student and the student's faculty advisor is required as part of this application. Any resultant grant award is not transferable to another student.

H. Additional Requirements

1. Research projects may include independent studies conducted by the doctoral candidate or well-defined portions of a larger study being conducted by a principal investigator holding a faculty position or senior research position and for which the graduate student will have primary responsibility.

2. The student must be the author of the proposal.

3. The student must have progressed at least to the point of having identified a dissertation committee.

4. Research projects must use sound quantitative or qualitative research methodologies or some combination of the two.

5. Given the size of these grants, sponsoring universities and colleges are encouraged to waive their customary indirect charges.

6. Each grant award is intended to support the dissertation work of a specific student (the applicant) and is not transferable to another student.

I. Project Description and Application Requirements

1. Content and Format of Application

Clarity and conciseness are of utmost importance. ACYF strongly encourages applicants to limit their applications to 100 pages, double-spaced, with standard one-inch margins and 12 point fonts. The total page limitation applies to both narrative text and supporting materials.

Applicants are cautioned to include all required forms and materials, organized according to the required format. (The description of the contents of the application materials listed below is included in Appendix 1 of this announcement.) The application packet must include the following items in order:

a. Cover Letter

b. Standard Federal Forms

• Standard Application for Federal Assistance (forms 424 and 424A)

• Assurances: Non-construction Programs (form 424B)

• Certifications regarding Lobbying

• Disclosures of Lobbying Activities

• Certification regarding Drug-free Workplace Requirements

• Certification regarding Debarment, Suspension, and other Responsibility Matters

• Protection of Human Subjects

• Certification regarding Environmental Tobacco Smoke

c. Table of Contents

d. Project Abstract

e. Project Narrative Statement

f. Appendices

• Contact Information for Student and Faculty Advisor

• Curriculum Vitae for Student and Faculty Advisor

• Letters of Support from Advisor

• Official Transcript of Student Reflecting Courses Completed at the Masters and Ph.D. Levels

2. Project Narrative Statement

The project narrative statement contains most of the information on which applications will be competitively reviewed. The Project Narrative should be carefully developed in accordance with the research goals and expectations described for the priority area in which the applicant is submitting a proposal, the requirements listed below and described in the Uniform Project Description (Appendix 2 in this announcement), and the evaluation criteria described in section “J” below.

The following sections from the Uniform Project Description (Appendix 2) should be included in the Project Narrative Statement of applications for Child Care Research Scholars:

a. Objectives and Need for Assistance

b. Approach

• Research Design and Methodology

• Management Plan

c. Additional Information Organizational Profile

d. Budget and Budget Justification

J. Evaluation Criteria

Eligible applications will be scored competitively against the published evaluation criteria described below. These criteria will be used in conjunction with the other expectations, priorities and requirements set forth in this announcement to evaluate how well each proposal addresses the Bureau's research agenda and goals.

Criterion 1: Objectives and Need for Assistance (maximum of 20 points).

• The extent to which the application reflects a solid understanding of critical issues, information needs, and research goals.

• The extent to which the conceptual model, research issues, objectives and hypotheses are significant, well formulated and appropriately linked, reflect the Administration for Children and Families and the Child Care Bureau's research agenda and priorities, and will contribute new knowledge and understanding.

• The extent to which the proposed project framework is appropriate, feasible, and would significantly contribute to the importance, comprehensiveness, and quality of the proposed research.

• The effectiveness with which the proposal articulates the current state of knowledge relative to issues being addressed, including: Critical child care issues and the complex interrelationships among major variables; the significance of these issues and variables for child care policies and programs; how current knowledge would be brought to bear on the proposed research; and how the research would benefit various audiences.

Criterion 2: Approach (Research Design and Methodology) (maximum of 40 points).

The extent to which the applicant's proposed research design:

• Appropriately links critical research issues, questions, variables, data sources, samples, and analyses;

• Employs technically sound and appropriate approaches, design elements and procedures;

• Reflects sensitivity to technical, logistical, cultural and ethical issues that may arise;

• Includes realistic strategies for the resolution of difficulties;

• Adequately protects human subjects, confidentiality of data, and consent procedures, as appropriate;

• Includes an effective plan for the dissemination and utilization of information by researchers, policy-makers, and practitioners in the field; and,

• Effectively utilizes collaborative strategies, as appropriate to the project goals and design.

Criterion 3: Approach (Management Plan) (maximum of 20 points).

The extent to which the project summary provides a management plan that:

• Presents a sound, workable and cohesive plan of action demonstrating how the work would be carried out on time, within budget and with a high degree of quality;

• Includes a reasonable schedule of target dates and accomplishments;

• Presents a sound administrative framework for maintaining quality control over the implementation and ongoing operations of the study; and,

• Demonstrates the ability to gain access to necessary organizations, subjects, and data.

Criterion 4: Applicant Profiles (Applicant Qualifications and Commitment) (maximum of 10 points).

The extent to which the scholar and advisor:

• Demonstrate competence in areas addressed by the proposed research, including relevant background, experience, training and work on related research or similar projects; and

• Demonstrate necessary expertise in research design, sampling, field work, data processing, statistical analysis, reporting, and information dissemination.

Criterion 5: Budget and Budget Justification (maximum of 10 points).

The extent to which proposed project costs are reasonable, the funds are appropriately allocated across component areas, and the budget is sufficient to accomplish the objectives. The budget should include funds to allow the research scholar to participate in the 2.5 day Child Care Bureau Annual Policy Research Meeting in Washington, D.C.

Part III: Priority Area 2: State Child Care Data and Research Capacity Projects

A. Purpose

The purpose of this priority area is to assist State CCDF Lead Agencies in improving their capacity to report reliable required child care data to the Child Care Bureau and to improve their capacity to conduct policy-relevant research and analysis in order to design and implement child care policies and programs that promote positive outcomes for children, families and communities.

The primary goal is to create a statewide research infrastructure to better understand child care needs, services, and outcomes for families in the context of social, economic and cultural change. Specific objectives include to: (1) Improve the collection, analysis, interpretation, and reporting of CCDF data; (2) develop or improve analytic linkages with other State and local data systems such as those maintained by child care licensing offices, TANF agencies, and resource and referral networks; (3) encourage collaborative efforts among institutions of higher education, research organizations, policy makers, practitioners, and other stakeholders to promote high quality research; (4) expand the availability of child care research that is specifically responsive to the needs of States and local communities; (5) develop leadership skills in management and interpretation of data; and (6) demonstrate effective dissemination strategies and means for informing policy decisions with research results.

Beginning with an assessment of its current CCDF administrative data systems and research needs, each State funded under this priority area will develop and implement a plan for improving its capacity for data collection and analysis and conducting policy relevant research. We anticipate that during the first budget period, some States may need to focus primarily on enhancements to CCDF reporting systems to ensure that their administrative data are valid, reliable and useful for policy analysis. Other States, with more refined child care data systems, will concentrate on developing improved capacity to analyze and interpret administrative data, conduct research, and use data to inform policy and program decisions. Ultimately, it is hoped that these efforts will evolve into a comprehensive strategy for ongoing development of a statewide research infrastructure. States are encouraged to create partnerships with relevant stakeholders and other appropriate collaborators to achieve these outcomes.

Applicants must demonstrate the need for assistance, commitment to improving the State's capacity for child care research and analysis, and the potential for these grant funds to make a difference. Successful grantees are expected to establish or expand a child care research, analysis and coordinating function, either as a unit within State government or through a contractual relationship with an outside research organization or university. The proposed staff of analysts must have extensive expertise in strategic planning, developing cross-disciplinary and cross-agency partnerships, implementing systems improvements, using large administrative data sets for research and analysis, and evaluating the implications of research findings for policy and program decisions. The grant awards will fund salaries and other expenses, including travel, for at least two full-time professional positions within an analysis unit.

B. Background Information

The Personal Responsibility and Work Opportunity Act of 1996 made substantial changes in the structure of Federal child care assistance by combining four major Federal child care programs into the Child Care and Development Fund (CCDF). While States have significant flexibility in designing and implementing child care programs under CCDF, they are required to meet certain statutory and regulatory requirements. Among other requirements, this includes the designation of a State Lead Agency, biennial State CCDF Plans that describe how CCDF services will be implemented, and the submission of aggregate and case-level data about the services provided through CCDF.

States must spend at least 70 percent of their CCDF dollars to provide child care services for families who are on or transitioning off TANF or who are at-risk of welfare dependency. Through the use of certificates (vouchers), eligible families must be given access to child care services comparable to those available to families who are not eligible for CCDF assistance. States may also provide child care services through contracts/grants with providers. In their biennial plans to ACF, States provide information about their policies on issues such as family eligibility limits, co-payments, provider reimbursement rates, and provider health and safety requirements.

States must submit aggregate reports to ACF annually. These reports include information on the number of child care providers (by type) that received funding under CCDF, the number of children served by type of payment and child care services, consumer education, and the total unduplicated number of children and families served. Monthly case-level reports (sample or full-population at State option) may be submitted by States on a monthly or quarterly basis. These reports are submitted electronically to ACF via CONNECT:DIRECT, a secure line administered through the Social Security Administration. The case-level reports include total monthly family income for determining eligibility, county of residence, child gender and month and year of birth, ethnicity and race of children, whether the head of the family is a single parent, sources of family income, month/year when child care assistance started, type of child care used and whether the provider was a relative, monthly family co-payment, monthly amount to be paid to the provider, total hours of care in the month, Social Security Number of the head of household (if voluntarily provided), and reasons for care.

These aggregate and case-level CCDF reports are an important source of information about national, State, and local child care services and systems including child care supply and demand. As the Child Care Policy Research Consortium and Research Partnerships have demonstrated, when analyzed and readily-accessible, administrative data can be a valuable tool in helping policy makers make child care policy and program decisions. Through their analysis of CCDF administrative data at the cross-State, State, and local levels, the Partnerships are advancing our knowledge about the child care choices parents make, the supply of care in low-income neighborhoods, practices believed to improve care (e.g., provider accreditation, teacher training and education, reimbursement rates), the types of arrangements used by low-income parents, and their utilization of child care subsidies. By linking CCDF data with employment, resource and referral, and licensing data sources, the Partnerships have been able to study such topics as the relationship between availability of subsidized care and entry into the job market, the industries/employers likely to have employees who receive child care assistance, and the interrelationships between regulations and supply of care.

However, administrators indicate that they face many barriers to using child care research and data to inform their decisions. In an exploration of the research needs of State child care administrators, the Oregon Child Care Research Partnership conducted a national research roundtable that involved a number of State child care administrators. That study, reported in an issue brief, Research and Child Care Policy: A View from the States, found that administrators were much more likely to be influenced by research conducted by their own agency as opposed to an outside organization. When asked about barriers to using research, administrators most frequently indicated that their agency was not able to conduct the kinds of research that would be useful in making policy and program decisions. The issue brief strongly recommends that research capacity be developed at national, State, and local levels and that funds be directed to States to help States develop the infrastructure to conduct child care policy-relevant research starting with the data required under Federal CCDF reporting requirements.

Therefore, in this priority area, the Child Care Bureau seeks to work with States to improve the reliability of administrative data collected in the course of providing CCDF services, to assist States in improving their ability to analyze and interpret the data they collect, and to encourage State-level policy-relevant research. As a result, States will have improved information on which to make policy and program decisions and, nationally, the Child Care Bureau will be better able to meet its obligation to report to Congress regarding the services provided under CCDF.

C. Eligible Applicants

State and Territorial Lead Agencies administering child care programs under the Child Care and Development Block Grant (CCDBG) of 1990 as amended by the Personal Responsibility and Work Opportunity Reconciliation Act of 1996 and the Balanced Budget Act of 1997.

D. Number of Awards

Up to three State Child Care Data and Research Capacity Grants will be funded in Fiscal Year 2002, subject to the availability of funds and results of the evaluation process.

E. Project Duration, Funding Levels, and Budget Periods

State Child Care Data and Research Capacity Grants will be awarded for project periods of up to three years. The Child Care Bureau expects to invest up to $250,000 during the initial 12-month funding period for each project. Non-competitive applications for continuation of State Child Care Data and Research Capacity Projects will be considered in fiscal years 2003 and 2004 with up to $250,000 per project being available for a 12-month period. Applications for continuation grants funded beyond the 12-month budget period, but within the 36-month project period, will be entertained in the subsequent year on a noncompetitive basis, subject to the availability of funds from future appropriations, satisfactory progress of the grantee, and a determination that continued funding is in the best interest of the government. The project period for three-year grants is from September 30, 2002-September 29, 2005.

F. Federal Share

To maximize the Federal investment in the State Child Care Data and Research Capacity Projects and in the interest of project sustainability, a financial commitment by the applicant organization (or other participating entity) is required. The grantee must provide at least 20 percent of the total approved cost of the project. The total approved cost is the sum of the Federal share and the non-Federal share. Therefore, a project requesting $250,000 per budget period must include a match of at least $62,500. (To calculate the 20 percent non-Federal share, divide the Federal Share by 4.) A project receiving the maximum $750,000 during the three-year project period must include a match of at least $187,500 for the three-year project period. The total requested budget equals the Federal plus non-Federal share. Applicants are encouraged to meet their match requirements through cash contributions. However, the non-Federal share may be in-kind contributions. Grantees will be held accountable for the commitment of non-Federal resources and failure to provide the required amount will result in a disallowance of unmatched Federal funds.

G. Other Financial Requirements

Funds available under this priority area may not be used to pay for existing positions currently funded using Federal, State, or local money. In addition, applicants are advised that funds under this priority are not intended to support the purchase of computer hardware or software.

H. Data Ownership

Raw data are the property of the agency or organization where the data reside. Working data files constructed for research belong to the grantee that is carrying-out the research, but analyses of those data may not be released without the approval of the agency that owns the original data. Once a study has been completed and released, clean, documented public use files must be prepared and archived according to specifications supplied by the Child Care Bureau. These public use data files will be the property of the Federal government and will remain in the public domain for secondary analysis by other researchers.

I. Project Description and Application Requirements

1. Contents and Format of Application

Clarity and conciseness are of utmost importance. ACYF strongly encourages applicants to limit their application to 100 pages, double-spaced, with standard one-inch margins and 12 point fonts. The total page limitation applies to both the narrative text and supporting materials.

Applicants are cautioned to include all required forms and materials, organized according to the required format. (The description of the contents of the application materials listed below is included in Appendix 1 of this announcement.) The application packet must include the following items in order:

a. Cover Letter

b. Standard Federal Forms

• Standard Application for Federal Assistance (forms 424 and 424A)

• Assurances: Non-construction Programs (form 424B)

• Certifications regarding Lobbying

• Disclosures of Lobbying Activities

• Certification regarding Drug-free Workplace Requirements

• Certification regarding Debarment, Suspension, and other Responsibility Matters

• Protection of Human Subjects

• Certification regarding Environmental Tobacco Smoke

c. Table of Contents

d. Project Abstract

e. Project Narrative Statement

f. Appendices

• Contact Information for all Key Staff

• Resumes

• Letters of Support, if appropriate

• Other

2. Project Narrative Statement

The project narrative statement contains most of the information on which applications will be competitively reviewed. The Project Narrative should be carefully developed in accordance with the research goals and expectations described for the priority area in which the applicant is submitting a proposal, the requirements listed below and described in the Uniform Project Description (Appendix 2 in this announcement), and the evaluation criteria and selection factors described in section “J” below.

The following sections from the Uniform Project Description (Appendix 2) should be included in the Project Narrative Statement of the application for State Child Care Data and Research Capacity projects:

a. Objectives and Need for Assistance

b. Approach

c. Organizational Profiles

• Management Plan

• Staff Qualification and Commitment

• Organizational Capacity and Resources

d. Budget and Budget Justification

J. Evaluation Criteria

The following criteria will be used to review and evaluate each application under this priority area. Each of the criteria should be addressed in the project description section of the application. The point values indicate the maximum numerical weight each criterion will be accorded in the review process. Note that the highest possible score an application can receive is 100 points.

Criterion 1: Objectives and Need for Assistance (35 Points).

In this section, applicants are expected to provide a clear and comprehensive description of their agency's current capacity to collect, analyze and report child care administrative data. This description should include data collection, analysis and reporting required by the State and Federal governments, as well as reports designed for the legislature and other constituencies. Applicants are encouraged to provide a description of the internal and external information needs of the agency, constituencies for information, and the types of data required or requested by these agencies, organizations or groups.

Applicants are expected to describe the current structure, management, and process for collecting, analyzing and reporting data. This description should include a consideration of the strengths and weaknesses of the current operating system and analytic components. The need for assistance should be clearly stated.

In addition, applicants should describe the research and evaluation that would be conducted by the proposed analysis unit. Applicants are encouraged to identify specific research questions to be addressed by the unit and explain how the agency's data systems would be used to answer these questions.

Specific Review Criteria

• Extent to which the applicant describes current methods and systems used by the agency to collect and compile the child care data required by the State and Federal government (including data sources, inputs, and reports) and describes the strengths and weaknesses of these systems. Linkages to TANF, licensing, and resource and referral systems should be described.

• Extent to which the applicant proposes activities which reflect the Administration for Children and Families and the Child Care Bureau's research agenda and priorities.

• Extent to which the applicant proposes a coherent approach to assessing the current quality of CCDF data, including the validity and reliability of the data as well as the procedures and policies in place for collection, analyses and interpretation of the data.

• Extent to which the applicant describes the internal and external information needs of the agency, constituencies for information, and the types of data required or requested by these agencies, organizations or groups.

• Extent to which the goals and objectives of the proposed analysis unit are explained clearly and are appropriate to this priority area, i.e., how the proposed unit would assist the agency in improving the State's capacity to meet internal and external information needs and its capacity for data collection, analysis, interpretation, and reporting.

• Extent to which the applicant presents a clear vision of the data analysis systems to be developed, including a discussion of the contextual factors that would facilitate or hinder the formation of the analysis unit.

• Extent to which the applicant's vision for a Statewide infrastructure for child care research and analysis is well conceptualized, feasible, and could continue evolving after the project period ends.

• Extent to which the applicant presents realistic examples of the research questions to be addressed, the types of studies to be conducted by the proposed analysis unit, and explains how these research questions and studies relate to State child care research priorities as well as the priorities and questions outlined in this announcement.

• Extent to which the applicant explains how the proposed research, evaluations and studies would contribute to the development of knowledge about the relationship between child care policies and programs and outcomes for children and families.

• Extent to which the applicant describes how the findings from the proposed studies would be used to inform policy and improve the quality of services.

• Extent to which the applicant clearly describes the types of products that would be produced by the analysis unit and the benefits that the State and other constituencies would derive from these reports and products.

Criterion 2: Approach (30 Points).

In this section, applicants are expected to describe in detail how they will implement the proposed analysis unit, improve the State's capacity for collection, analysis, interpretation, and reporting of data, and conduct child care policy-relevant research. Applicants are advised to present their assessment of the advantages and disadvantages of an in-house analysis unit versus a contractual partner. Applicants should describe why they have selected one approach over the other. The justification should include a description of how the chosen approach will integrate current information demands, operations and procedures, management structure, staffing and other resources.

Regardless of the approach selected (in-house or contractual), the applicant is expected to present an implementation plan and describe in detail how the unit will be established, managed, operated and evaluated. This section should also include a plan for sustaining the unit after Federal funding has ceased.

This section of the Project Narrative Statement also requires that the applicant describe the technical approach for addressing issues and achieving the objectives described in Criterion 1 above. This should include a detailed plan that identifies goals and objectives, relates those goals and objectives to the strengths and weakness identified regarding the State's current methods and systems used to collect and compile administrative data, and provides a work plan identifying specific activities necessary to accomplish the stated goals and objectives. The plan must demonstrate that each of the project objectives and activities support the needs identified and can be accomplished with the available or expected resources during the proposed project period.

For any research that is proposed within the project period, a methodological discussion must be provided that includes technical details of the proposed research design, including: (1) Conceptual framework for the research; (2) research questions, hypotheses and variables; (3) data sources; (4) linkages with other research; (5) data processing and statistical analysis; and (6) product development and information dissemination. (For more details, see below.)

When specific studies are proposed, applicants are asked to provide a flow chart or table showing the interrelationships among the proposed research issues, questions, variables, and data elements.

Specific Review Criteria

• Extent to which the applicant presents an informed assessment of the advantages and disadvantages of an in-house analysis unit versus a contractual partner.

• Extent to which the justification for selecting the proposed approach is explained in detail, including a description of how the chosen approach will mesh with current information demands, operations and procedures, management structure, staffing and other resources.

• Extent to which a coherent approach to improving the quality of CCDF data is embedded within the scope of the overall capacity-building.

• Extent to which the proposed implementation plan describes the function and scope of activities and indicates when the objectives and major activities under each objective will be accomplished.

• Extent to which the selected approach and implementation plan are appropriate and feasible and will build an analytic capacity for the agency; the description should present a feasible method for identifying research priorities, and determining research studies to be conducted.

• Extent to which the design for any proposed studies appropriately link critical research issues, questions, variables, data sources, samples, and analyses; employ technically sound and appropriate approaches; reflect sensitivity to technical, logistical, cultural and ethical issues that may arise; include realistic strategies for the resolution of difficulties; adequately protect human subjects, confidentiality of data, and consent procedures, as appropriate; include an effective plan for dissemination and utilization of the data; and effectively utilize collaborative strategies, as appropriate to the project goals and design.

• Extent to which the implementation plan provides an appropriate and feasible method for institutionalizing and sustaining the analytic unit after Federal funding has ceased.

Additional Information

1. Conceptual Framework for the Research

Based on the issues and objectives described in Criterion 1, present the conceptual framework for the proposed research, including the approach to be taken and why this approach was chosen.

2. Research Questions, Hypotheses and Variables

Based on the conceptual framework for the research, present: (1) Areas of inquiry to be explored; (2) specific research questions and hypotheses; and (3) research variables and constructs. This discussion should relate back to the earlier discussion of Objectives and Need (I, 2, a) and lead into the design elements that follow.

3. Data Sources and Sampling Plan

This section should include a detailed plan for identifying data sources and obtaining an appropriate sample to achieve objectives of the proposed research.

4. Linkages With Other Research

If the proposed project would involve linkage with ongoing research, describe the ongoing research design and status, how the proposed study would benefit from and contribute to it, how the technical aspects of the linkage would be structured and carried out, and how the linked studies would address the goals of this announcement. Describe how the proposed research will make a distinct contribution while building on ongoing research. Include a letter of cooperation from the individual/organization conducting the research which details the status of the data collection, procedures to ensure data quality, timeliness of data availability and applicant access.

5. Data Processing and Statistical Analysis

Include a detailed plan for processing and analyzing data from all sources which illustrates how the analyses will meet the goals of this research. Discuss the procedures which would be used to clean data, ensure data quality, and prepare data tapes. Discuss plans for the analysis of data, including units of analysis, analytic techniques to be used with various types of data, statistical considerations including, but not limited to power analysis, attrition, response rates, etc., and the linkage of data sets, where appropriate. Describe documentation of the final data set and preparation of data for archiving by the Child Care Bureau.

6. Product Development and Information Dissemination

Include a product development schedule and information dissemination plan which describes the products to be generated during the course of this research (such as technical papers or reports, summaries, briefings, conference presentations, doctoral dissertations, journal articles, internet applications, software and public use data tapes, and the final report). Describe the audiences for various products and the dissemination strategies that will be employed. Discuss which products might be collaboratively developed or disseminated to intended audiences.

Criterion 3: Organization Profiles (25 Points).

Applicants need to demonstrate that they have the capacity to implement the proposed project. This criterion consists of three broad topics: (1) management plan, (2) staff qualifications and commitment, and (3) organizational capacity and resources.

Management Plan (10 Points).

Overview

Applicants are expected to present a sound and feasible management plan for implementing the analysis unit. This section should detail how the unit will be structured and managed, how the timeliness of activities will be ensured, how quality control will be maintained, and how costs will be controlled. The role and responsibilities of the lead agency should be clearly defined and, if appropriate, applicants should discuss the management and coordination of activities carried out by any partners, subcontractors and consultants.

Applicants are required to provide a plan that describes the role, responsibilities and time commitments of each proposed staff position, including consultants, subcontractors and/or partners. The plan should include a list of organizations and consultants who will work with the program along with a short description of the nature of their effort or contribution.

Applicants are expected to have the project fully staffed and ready for implementation as quickly as possible after notification of the grant award. Therefore, strategies for ensuring timely staffing and implementation should be clearly and succinctly presented in the management plan. The narrative should include a description of the timeline for hiring and procurement in the State, and methods that the applicant will use to expedite the process.

Applicants are also expected to produce a timeline that presents a reasonable schedule of target dates, accomplishments and deliverables by quarter. The timeline should include the sequence and timing of the major tasks and subtasks, important milestones, reports, and completion dates. The proposal should also discuss factors that may affect project implementation or the outcomes and present realistic strategies for the resolution of these difficulties. For instance, downtime due to staff vacancies at start should be reflected. Additionally, if appropriate, applicants should present a plan for training project staff, as well as staff of cooperating organizations.

Specific Review Criteria

• Extent to which the management plan provides a diagram showing the organizational structure of the project and the functional relationships among components.

• Extent to which the management plan presents a realistic approach to achieving the objectives of the proposed project on time and within budget, including clearly-defined responsibilities, timelines and milestones for accomplishing project tasks.

• Extent to which the roles and responsibilities of the lead agency are clearly defined and the time commitments of the project director and other key project personnel are appropriate and adequate to meet the objectives of the proposed project.

Staff Qualifications and Commitment (10 Points).

Overview

In this section, applicants should describe the qualifications of the project manager and key staff, including analysts who will staff the analysis unit and the positions they will fill. Applicants are also expected to describe the educational background and professional experience of other professionals who will form the interdisciplinary analysis unit or organization. (Brief resumes should be provided.) The proposed staff should include persons with educational backgrounds and professional experiences in early childhood services, child development, social work, public policy, economics and other social science disciplines such that the analysis unit or organization will be able to conduct research on a broad range of child care issues and approaches.

Specific Review Criteria

• Extent to which the proposed project director, key project staff (including analysts to be hired) and consultants have the necessary technical skill, knowledge and experience to successfully carry out their responsibilities.

• Extent to which staffing is adequate for the proposed project, including administration, program operations, data collection and analysis, reporting and dissemination of findings.

• Extent to which the applicant demonstrates executive level support and commitment from within the CCDF Lead Agency.

Organizational Capacity and Resources (5 Points).

Overview

Applicants must show that they have the organizational capacity and resources to form, manage, operate, evaluate and sustain an analysis unit, including the capacity to resolve a wide variety of technical and management problems that may occur. If the proposal involves partnering and/or subcontracting with other agencies/organizations, then the proposal should include an organizational capability statement for each participating organization documenting the ability of the partners and/or subcontractors to carry out their assigned roles and functions.

Specific Review Criteria

• Extent to which the applicant organization and partnering organizations collectively have experience and resources required to form, manage, operate and sustain an analysis unit.

• Extent to which the applicant has adequate organizational resources for the proposed project, including administration, program operations, data processing and analysis, reporting and dissemination of findings.

Criterion 4: Budget and Budget Justification (10 Points).

Describe the nature and extent of financial participation from all sources during the proposed project period. Present a detailed budget for each 12-month interval of the proposed project period, i.e., the 12 month budget period to be funded under this announcement and subsequent budget periods that may be funded under a non-competing continuation process. Include a detailed budget narrative that describes and justifies line item expenses within the object class categories listed on the Standard Form 424A. (Line item allocations and justification are required for both Federal and non-Federal funds.) If project funds will be subcontracted, a detailed budget for the use of those funds must be also included. In estimating costs, applicant should consider down time due to staff vacancies, administrative processes, etc.

The proposed budget should include sufficient funding to cover travel expenses for a key person from the project and the evaluator to attend two two-and-a-half day meetings of grantees in the Washington DC area hosted by the Child Care Bureau. Attendance at these meetings is a grant requirement.

Specific Review Criteria

• Extent to which the costs of the proposed program are reasonable in view of the activities to be carried out, that funds are appropriately allocated across component areas, and that the budget is sufficient to accomplish the objectives.

• Extent to which the applicant demonstrates that it has sufficient fiscal and accounting capacity to ensure prudent use, proper disbursement, and accurate accounting of funds.

• Extent to which applicant's budget is sufficient to endure that unanticipated problems can be resolved and that the project will be completed on time and with a high degree of quality.

Part IV. Appendices

A. Appendix 1: Contents and Format of the Application

Clarity and conciseness are of utmost importance. ACYF strongly encourages applicants to limit their applications to 100 pages, double-spaced, with standard one-inch margins and 12 point fonts. This includes the entire Project Narrative Statement including text, tables, charts, graphs, resumes, corporate statements and appendices.

Applicants are encouraged to include all required forms and materials, organized according to the required format. The application packet must include the following items in order:

1. A cover letter that includes the announcement number, priority area and contact information.

2. Standard Federal Forms.

a. Standard Application for Federal Assistance (SF 424 fact sheet and SF 424A) must be included with the application.

b. Standard Form 424B, “Assurances: Non-Construction Programs.” Applicants must sign and return the Standard Form 424B with their applications.

c. Certifications Regarding Lobbying. Applicants must provide a certification regarding lobbying when applying for an award in excess of $100,000. Applicants must sign and return the certification with their applications.

d. Disclosure of Lobbying Activities. Applicants must disclose lobbying activities on the Standard Form LLL when applying for an award in excess of $100,000. Applicants who have used non-Federal funds for lobbying activities in connection with receiving assistance under this announcement shall complete a disclosure form to report lobbying. Applicants must sign and return the disclosure form, if applicable, with their applications.

e. Certification Regarding Drug-Free Workplace Requirements. Applicants must make the appropriate certification of their compliance with the Drug-Free Workplace Act of 1988. By signing and submitting the application, the applicant is providing the certification and need not mail back the certification with the application.

f. Certification Regarding Debarment, Suspension, and Other Responsibility Matters. Applicants must make the appropriate certification that they are not presently debarred, suspended, or otherwise ineligible for an award. By signing and submitting the application, the applicant is providing the certification and need not mail back the certification with the application.

g. Protection of Human Subjects: Assurance, Identification, Certification, and Declaration.

h. Certification Regarding Environmental Tobacco Smoke. Applicants must make the appropriate certification of their compliance. By signing and submitting the application, the applicant is providing the certification and need not mail back the certification with the application.

3. For-profit entities wishing to receive a grant directly must provide a letter indicating their willingness to waive their fees. Non-profit organizations must submit proof of non-profit status in the application at the time of submission. The applicant can demonstrate proof of non-profit status in any one of three ways:

a. By providing a copy of the organization's listing in the Internal Revenue Service's (IRS) most recent list of tax-exempt organizations described in Section 501(c3) of the IRS code;

b. By providing a copy of the currently valid IRS tax exemption certificate; or

c. By providing a copy of the articles of incorporation bearing the seal of the State in which the corporation or association is domiciled.

4. Executive Order 12372—Single Point of Contact.

This program is covered under Executive Order 12372, “Intergovernmental Review of Federal Programs”, and 45 CFR part 100, “Intergovernmental Review of Department of Health and Human Services Program and Activities”. Under the Order, States may design their own processes for reviewing and commenting on proposed Federal assistance under covered programs.

All States and Territories except Alabama, Alaska, Colorado, Connecticut, Hawaii, Idaho, Kansas, Louisiana, Massachusetts, Minnesota, Montana, Nebraska, New Jersey, Ohio, Oklahoma, Oregon, Pennsylvania, South Dakota, Tennessee, Vermont, Virginia, Washington, American Samoa and Palau have elected to participate in the Executive Order process and have established Single Points of Contact (SPOCs). Applicants from these twenty-four jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations that may trigger the accommodation or explain rule.

When comments are submitted directly to ACF, they should be addressed to: Alece Morgan, Office of Grants Management, 370 L'Enfant Promenade, SW., DC 20447, Attn: Child Care Policy Research Discretionary Grants. A list of the Single Points of Contact (SPOCs) for each State and Territory can be found on the following web site: http://www.whitehouse.gov/omb/grants/spoc.html.

5. Table of Contents

6. Project Abstract (not to exceed one page) for use in official briefings, decision packages, and public announcement of awards.

7. Project Narrative Statement (See instructions in Appendix 2 and Evaluation Criteria for each Priority described in this announcement.)

8. Appendices: All supporting materials and documents should be organized into appropriate appendices and securely bound in to the application package. Applicants are reminded that the total page limitation applies to both narrative text and supporting materials.

a. Contact Information for all Key Staff

b. Resumes

c. Letters of Support, if appropriate

d. Other

9. Number of Copies and Binding: An original and two copies of the complete application packet must be submitted. Each copy of the application should be securely stapled in the upper left-hand corner, clipped, or secured at the top with a two-hole punch fastener. Because each application will be duplicated for the review panel, do not use non-removable binders. Do not include tabs, plastic inserts, brochures, videos, or any other items that cannot be photocopied.

B. Appendix 2: Uniform Project Description

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross referencing should be used rather than repetition. Supporting information concerning activities that will not be directly funded by the grant or information that does not directly pertain to an integral part of the grant funded activity should be placed in an appendix.

Pages should be numbered and a table of contents should be included for easy reference.

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives And Need For Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Additional Information

Following are requests for additional information that need to be included in the application:

Staff And Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Letters of Support

Provide statements from community, public and commercial leaders that support the project proposed for funding. All submissions should be included in the application OR by application deadline.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 U.S.C. 403(11) (currently set at 100,000). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Nonfederal Resources

Description: Amounts of non-Federal resources that will be used to support the project as identified in Block 15 of the SF-424.

Justification: The firm commitment of these resources must be documented and submitted with the application in order to be given credit in the review process. A detailed budget must be prepared for each funding source.

Dated: April 25, 2002.
James A. Harrell,
Deputy Commissioner, Administration on Children, Youth and Families.

[FR Doc. 02-10781 Filed 4-30-02; 8:45 am]

BILLING CODE 4184-01-U